DEPARTMENT OF AGRICULTURE

Forest Service

Nez Perce-Clearwater National Forests, Palouse Ranger District; Idaho; Little Boulder Project

AGENCY: Forest Service, USDA.

ACTION: Notice of intent to prepare an environmental impact statement.

SUMMARY: The Little Boulder project was released for public scoping in November 2014. The anticipated National Environmental Policy Act (NEPA) analysis level at that time was an environmental assessment. Upon further environmental impact analysis, the responsible official decided to proceed with an environmental impact statement (EIS) to analyze and disclose any significant effects which may result from the proposed action. Those who submitted comments in response to the initial scoping request within the allotted timeframe already have standing to object. To establish standing to object, comments may still be submitted in response to this notice no later than 30 days from May 26, 2017 OR by providing comments during the 45-day comment period following distribution of the draft EIS.

DATES: The draft environmental impact statement is expected September 2017 and the final environmental impact statement is expected March 2018.

FOR FURTHER INFORMATION CONTACT: Stephanie Israel, NEPA Planner (North Zone), Nez Perce-Clearwater National Forests, (208) 476-8344 or sisrael@fs.fed.us.

Individuals who use telecommunication devices for the deaf (TDD) may call the Federal Information Relay Service (FIRS) at 1-800-877-8339 between 8 a.m. and 8 p.m., Eastern Time, Monday through Friday.

SUPPLEMENTARY INFORMATION:

Purpose and Need for Action

The purpose of the Little Boulder project is to create conditions that are more resilient to disturbance by restoring white pine and other seral tree species and to initiate recovery of watershed function. Currently, grand fir and Douglas-fir tree species dominate the landscape within the proposed project area. The current species composition is creating intense competition for nutrients and ladder fuels in the drier, fire-dependent ecosystems. If left untreated, these conditions would lead to a decline in forest health and put future ecological, societal, and economical values at risk.

There is a need to initiate recovery of watershed function with management actions aimed at reducing long-term sedimentation to streams and improving soil productivity. Nearly all of the fish-bearing streams in the Little Boulder project area are critical habitat for steelhead. A combination of various past management activities have resulted in channels with excess sediment, areas of bank instability, and decreased fisheries habitat. The proposed activities in the Little Boulder project would aim to improve future watershed conditions.

Proposed Action

The original proposed action identified has been modified based on additional field review, resource concerns, and scoping comments. Information about the original proposed action can be found on the project Web site at http://prdp2fs.ess.udsa.gov/project/?project=45225. The current proposal, also identified as Alternative 2, would harvest timber from approximately 2,680 acres. Non-commercial fuels reduction treatments would occur on approximately 1,180 acres. Proposed activities would require construction of 5.2 miles of new roads, 9 miles of reconstruction, and 14.9 miles of road re-conditioning. 10.2 miles of temporary roads would be decommissioned after harvest.

Watershed improvements would include: Placing existing roads needed for future management into intermittent storage; improving channel and riparian function through woody debris and vegetation treatments; replacing undersized or deteriorated culverts; replacing existing Ruby Creek ford with a bridge or other aquatic organism passage structure; and decompacting existing skid trails and landings.

Possible Alternatives

Three alternatives are being developed in addition to the proposed action (Alternative 2) for the Little Boulder project: Alternative 1—No-action; Alternative 2—Proposed Action (preferred); Alternative 3—Existing Roads; Alternative 4-Openings Less Than 40 Acres in Size.

Responsible Official

Forest Supervisor, Nez Perce-Clearwater National Forests.

Nature of Decision To Be Made

The Responsible Official will determine whether to adopt the proposed action or another alternative, in whole or in part, and what mitigation measurements and management requirements will be implemented.

Scoping Process

This notice of intent initiates the scoping process which guides the development of the environmental impact statement. Comments submitted in a timely and appropriate response to the previous notification to prepare an environmental assessment were reviewed, considered, and already established standing to object.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered; however, anonymous comments will not procide the Agecny with the ability to provide the respondent with subsequent environmental documents.

Dated: April 13, 2017.
Glenn P. Casamassa,
Associate Deputy Chief, National Forest System.

[FR Doc. 2017-08406 Filed 4-25-17; 8:45 am]

BILLING CODE 3411-15-P